NUCLEAR REGULATORY COMMISSION

[Docket No. 70-0925; NRC-2023-0087]

Cimarron Environmental Response Trust; Cimarron Facility; Environmental Assessment and Finding of No Significant Impact

AGENCY: Nuclear Regulatory Commission.

ACTION: Notice; issuance.

SUMMARY: The U.S. Nuclear Regulatory Commission (NRC) is considering amending Special Nuclear Materials (SNM) License No. SNM-928, which is held by the Cimarron Environmental Response Trust (CERT) for activities at the site of the former Cimarron Fuel Fabrication Facility (Cimarron site) in Logan County, Oklahoma. The license amendment would approve a revision to the site decommissioning plan developed by Environmental Properties Management, LLC (EPM) to address remaining groundwater contamination at the Cimarron site. The NRC staff is issuing an environmental assessment (EA) and finding of no significant impact (FONSI) associated with the proposed amendment.

DATES: The EA and FONSI referenced in this document are available on December 19, 2024.

ADDRESSES: Please refer to Docket ID NRC-2023-0087 when contacting the NRC about the availability of information regarding this document. You may obtain publicly available information related to this document using any of the following methods:

• Federal Rulemaking Website: Go to https://www.regulations.gov and search for Docket ID NRC-2023-0087. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Christine Pineda, Office of Nuclear Material Safety and Safeguards, U.S. Nuclear Regulatory Commission, Washington, DC 20555-0001; telephone: 301-415-6789; email: Christine.Pineda@nrc.gov.

SUPPLEMENTARY INFORMATION:

I. Introduction

The NRC is considering amending license no. SNM-928, held by the CERT, for NRC-regulated activities at the site of the former Cimarron Fuel Fabrication Facility located near Cimarron City along the Cimarron River in Logan County, Oklahoma. On October 7, 2022, EPM submitted a request to the NRC for a license amendment that would approve revision 3 of the site decommissioning plan. Revision 3 of the decommissioning plan details EPM's plans to install, operate, and dismantle a groundwater treatment system at the site.

As required in section 51.21 of title 10 of the Code of Federal Regulations (10 CFR), “Criteria for and identification of licensing and regulatory actions requiring environmental assessments,” the NRC developed an EA for the proposed license amendment, which would incorporate the revised decommissioning plan into the license. Based on the results of the EA, the NRC has determined not to prepare an environmental impact statement for the proposed amendment and is issuing a FONSI.

II. Summary of Environmental Assessment

Description of the Proposed Action

The proposed Federal action is amending the license to incorporate a revised decommissioning plan that details EPM's plans to construct, operate, and dismantle a groundwater treatment system. The proposed groundwater treatment operation would reduce concentrations of uranium in groundwater to 6.7 becquerels per liter (Bq/L) (180 picocuries per liter [pCi/L]), as required in condition 27(b) of license no. SNM-928. The establishment of this criterion assumed the use of groundwater as a drinking water source and for the raising of produce (plants and livestock) by a resident farmer. Treated groundwater would be reinjected to the ground or discharged to the Cimarron River. After groundwater treatment is complete, EPM would conduct monitoring, dismantle the treatment system, and perform a final status survey before requesting NRC license termination. The entire groundwater treatment process would take about 16 years. Remediation would be completed in about 12.5 years, followed by about 3 years of groundwater monitoring, dismantling activities, and the development and implementation of a final status survey.

The proposed license amendment to approve the decommissioning plan would also authorize the possession of technetium-99 (Tc-99), which is present in the groundwater. Because treatment of the groundwater would likely result in the concentration of Tc-99 in the treatment media, the addition of Tc-99 to the license would allow the licensee to possess and dispose of contaminated material containing both uranium and Tc-99 as low-level radioactive waste.

The proposed action is in accordance with the licensee's application dated October 7, 2022, as supplemented by letters dated November 3, 2023; November 15, 2023; and December 8, 2023.

Need for the Proposed Action

The purpose of the NRC's proposed action is to amend the license to incorporate the revised decommissioning plan, which details EPM's plans to conduct groundwater cleanup activities to ensure that the site will comply with NRC decommissioning criteria and standards in 10 CFR part 20, “Standards for Protection Against Radiation,” for protection of the public and the environment. Groundwater remediation is needed so that the NRC can ultimately release the site from and terminate license no. SNM-928.

Environmental Impacts of the Proposed Action

The NRC staff assessed the impacts of the proposed action on land use; historical and cultural resources; visual and scenic resources; climatology, meteorology and air quality; geology, minerals, and soils; water resources; ecological resources; socioeconomics; noise; traffic and transportation; public and occupational health and safety; and waste management. The NRC staff concluded that, as detailed in the revised decommissioning plan, construction, operation, and decommissioning of the proposed groundwater remediation system would have a beneficial impact on groundwater quality and would not have significant impacts on land use, visual and scenic resources, the geologic environment, surface water resources, air quality, noise, socioeconomic conditions, public and occupational health, transportation, and waste generation and management. The NRC staff concluded, after consultation with the Oklahoma State Historic Preservation Office and the Oklahoma Archaeological Survey and receiving input from Native American Tribes, that the proposed action would not cause effects on resources that are eligible for listing on the National Register of Historic Places and that no Tribal cultural resources have been identified or are known to exist on the site. In consultation with the Oklahoma Ecological Services Field Office of the U.S. Fish and Wildlife Service and the Oklahoma Department of Environmental Quality (DEQ), the NRC staff concluded that the proposed action may affect but is not likely to adversely affect terrestrial threatened or endangered species, would not affect the aquatic threatened or endangered species, and may modify but is not likely to adversely modify critical habitat for two species of fish. Finally, the staff found that the proposed decommissioning activities would not have disproportionate and adverse human health and environmental effects on minority and low-income populations living near the Cimarron site. The proposed action would result in the remediation of uranium to concentration limits required by the NRC, specified in license condition 27(c). In addition, the proposed action would result in the removal of some Tc-99 from groundwater, but the concentrations of Tc-99 in groundwater are already below the NRC limit. The Oklahoma DEQ plans to work with EPM during and after the proposed action to further address Tc-99, as well as nitrate and fluoride levels in the groundwater. After groundwater remediation for uranium is complete and the NRC license is terminated, EPM would follow any controls that may be established by the Oklahoma DEQ for future land use or groundwater use.

Environmental Impacts of the Alternatives to the Proposed Action

The NRC staff considered the “no-action alternative.” Under the no-action alternative, the NRC would not approve the revised decommissioning plan as proposed and EPM would need to prepare and submit a new plan for review. Site maintenance activities would continue in the meantime. The impacts from the no-action alternative ultimately would be similar to the impacts of the proposed action described in the EA, albeit delayed by the amount of time needed to revise, review, and approve a new groundwater treatment plan.

Agencies and Persons Consulted

The NRC provided the draft EA in June 2024 to the Oklahoma DEQ for review and comment. The Oklahoma DEQ provided clarifying comments regarding the State's role during and after the NRC-licensed decommissioning activities to further ensure public health and safety at the site, clarification regarding limits to be established in the permit for discharges of treated groundwater to the Cimarron River, clarification regarding State Tc-99 limits in discharges and in groundwater, and corrections. The EA reflects changes the NRC staff made to address these State comments.

As described in the “Environmental Impacts of the Proposed Action” section of this notice, during the preparation of the EA the NRC staff consulted with the Oklahoma State Historic Preservation Office, the Oklahoma Archaeological Survey, and the U.S. Fish and Wildlife Service. The EA reflects the information received from these agencies to address cultural and historic resources and threatened and endangered species.

Throughout the development of the EA, the NRC staff communicated with Native American Tribes. While no Tribes requested formal consultation, several Tribes requested to be kept informed of the status of the NRC's review. Section 4.2 of the EA details the NRC's communications with Tribes over the course of this review.

III. Finding of No Significant Impact

The NRC staff prepared the EA as part of its review of the proposed action. On the basis of the EA, the NRC finds that there would be no significant environmental impacts from the proposed action, and that preparation of an environmental impact statement is not warranted. Accordingly, the NRC has determined that a FONSI is appropriate. In accordance with 10 CFR 51.32(a)(4), this FONSI incorporates the EA by reference.

IV. Availability of Documents

The documents identified in the following table are available to interested persons through one or more of the following methods, as indicated.

Document description | ADAMS accession No.
Environmental Assessment for Revised Decommissioning Plan Proposal to Remediate Groundwater at the Cimarron Site in Logan County, Oklahoma, dated November 2024 | ML24334A062.
Cimarron Environmental Response Trust Facility Decommissioning Plan—Revision 3, dated October 7, 2022 | ML22286A041 (Package).
Response to NRC Request for Additional Information for the EA, dated November 3, 2023 | ML23319A252.
Response to NRC Request for Additional Information Related to Nuclear Criticality Safety, dated November 15, 2023 | ML23319A203.
Response to NRC Request for Additional Information for the SER, dated December 8, 2023 | ML23346A262.
NRC Form 374—Materials License SNM-928, Amendment 21, dated February 14, 2011 | ML110270373.
Email to State of Oklahoma Requesting Review of Draft EA, dated May 31, 2024 | ML24316A012.
State of Oklahoma Comments on Draft EA, dated August 2, 2024 | ML24218A172.
State of Oklahoma Letter to NRC—National Pollutant Discharge Elimination System Permit Discharge Limits, dated October 11, 2024 | ML24309A252.

Dated: December 13, 2024.
For the Nuclear Regulatory Commission.
Robert Sun,
Chief, Environmental Project Management Branch 2, Division of Rulemaking, Environmental, and Financial Support, Office of Nuclear Material Safety and Safeguards.

[FR Doc. 2024-30215 Filed 12-18-24; 8:45 am]

BILLING CODE 7590-01-P